FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 000016F.

Name: Major Forwarding Company, Inc.

Address: 159-15 Rockaway Blvd., Jamaica, NY 11434.

Date Revoked: October 21, 2013.

Reason: Voluntary Surrender of License.

License No.: 015677N.

Name: OHL Solutions, Inc. dba Activsea USA.

Address: 147-80 184th Street, Jamaica, NY 11413.

Date Revoked: November 12, 2013.

Reason: Voluntary Surrender of License.

License No.: 16854N.

Name: YT Youngtrans, Inc. dba Youngtrans.

Address: 167-55 148th Ave. Jamaica, NY 11434.

Date Revoked: November 18, 2013.

Reason: Voluntary Surrender of License.

License No.: 018071N.

Name: Sinotrans Express Inc.

Address: 10501 Valley Blvd., Suite 1818, El Monte, CA 91731.

Date Revoked: September 22, 2013.

Reason: Failed to maintain a valid bond.

Sandra L. Kusumoto,
Director, Bureau of Certification and Licensing.

[FR Doc. 2013-29519 Filed 12-10-13; 8:45 am]

BILLING CODE 6730-01-P